DEPARTMENT OF COMMERCE

National Oceanic and Atmospheric Administration

[I.D. 020907C]

Marine Mammals; Scientific Research Permit Applications

AGENCY: National Marine Fisheries Service (NMFS), National Oceanic and Atmospheric Administration (NOAA), Commerce.

ACTION: Notice; receipt of applications; extension of comment period.

SUMMARY: On February 15, 2007, the NMFS announced receipt of seven applications for permits to conduct research on free-ranging threatened and endangered Steller sea lions (Eumetopias jubatus) in California, Washington, Oregon, and Alaska; five applications for permits to conduct research on free-ranging northern fur seals (Callorhinus ursinus) in Alaska; and one application for an amendment to a permit for activities with captive Steller sea lions in Alaska. Written comments were due by April 2, 2007. NMFS has decided to allow additional time for submission of public comments on this action.

DATES: The public comment period for this action has been extended from April 2 to April 30, 2007. Written comments must be received or postmarked by April 30, 2007.

ADDRESSES: Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request(s) would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include the appropriate File Number(s) in the subject line of the e-mail comment as a document identifier.

FOR FURTHER INFORMATION CONTACT: Tammy Adams, Amy Sloan, Kate Swails, or Jaclyn Daly, (301)713-2289.

SUPPLEMENTARY INFORMATION: On February 15, 2007 (72 FR 7420) NMFS announced receipt of the following applications for permits: 782-1889, 358-1888, 881-1893, 881-1890, 434-1892, 1049-1886, 1034-1887, 715-1883, 715-1884, 715-1885, 1118-1881, 1119-1882, and 881-1745. Summaries of the specific permit applications can be found in the February 15, 2007, Federal Register notice and are not repeated here. Specific permit applications are available upon request from the locations provided in the February 15, 2007, Federal Register notice and at http://www.nmfs.noaa.gov/pr/permits/review.htm.

Dated: March 15, 2007.
P. Michael Payne,
Chief, Permits, Conservation and Education Division, Office of Protected Resources, National Marine Fisheries Service.

[FR Doc. E7-5173 Filed 3-20-07; 8:45 am]

BILLING CODE 3510-22-S